DEPARTMENT OF ENERGY

[FE Docket No. 02-96-NG]

Office of Fossil Energy; Northern Utilities, Inc.; Order Granting Long-Term Authority to Import Natural Gas from Canada

AGENCY: Office of Fossil Energy, DOE.

ACTION: Notice of order.

SUMMARY: The Office of Fossil Energy (FE) gives notice that on January 7, 2003, it issued DOE/FE Order No. 1839 granting Northern Utilities, Inc. (Northern Utilities) authority to import up to 62,748 Mcf per day of natural gas from Canada, beginning on January 15, 2003, and extending through April 1, 2005. The natural gas will be purchased from ENCANA Corporation to serve its customers in Maine and New Hampshire.

This Order may be found on the FE Web site at http://www.fe.doe.gov (select gas regulation), or on the electronic bulletin board at (202) 586-7853. It is also available for inspection and copying in the Office of Natural Gas & Petroleum Import & Export Activities Docket Room, 3E-033, Forrestal Building, 1000 Independence Avenue, SW, Washington, DC 20585-0334, (202) 586-9478. The Docket Room is open between the hours of 8 a.m. and 4:30 p.m., Monday through Friday, except Federal holidays.

Issued in Washington, DC, January 7, 2003.
Clifford Tomaszewski,
Manager, Natural Gas Regulation, Office of Natural Gas & Petroleum Import & Export Activities, Office of Fossil Energy.

[FR Doc. 03-681 Filed 1-13-03; 8:45 am]

BILLING CODE 6450-01-P